DEPARTMENT OF TRANSPORTATION

Federal Aviation Administration

14 CFR Part 39

[Docket No. FAA-2020-0320; Product Identifier 2019-CE-011-AD]

RIN 2120-AA64

Airworthiness Directives; McCauley Propeller Systems Governors

AGENCY: Federal Aviation Administration (FAA), DOT.

ACTION: Notice of proposed rulemaking (NPRM).

SUMMARY: The FAA proposes to adopt a new airworthiness directive (AD) for certain model McCauley Propeller Systems (McCauley) governors installed on airplanes. This proposed AD was prompted by reports of an unapproved variant McCauley idler gear bearing, part number (P/N) A-20028, that could be installed in the affected governors. This proposed AD would require replacing the governor with a governor that is eligible for installation. The FAA is proposing this AD to address the unsafe condition on these products.

DATES: The FAA must receive comments on this proposed AD by May 22, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact McCauley Propeller Systems, One Cessna Boulevard, P.O. Box 7704, Wichita, Kansas 67277; telephone: (800) 621-7767 or (316) 831-4021; email: productsupport@txtav.com; internet: https://mccauley.txtav.com. You may view this service information at the FAA, Policy and Innovation Division, 901 Locust, Kansas City, Missouri 64106. For information on the availability of this material at the FAA, call (816) 329-4148.

Examining the AD Docket

You may examine the AD docket on the internet at https://www.regulations.gov by searching for and locating Docket No. FAA-2020-0320 or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Thomas Teplik, Aerospace Engineer, Wichita ACO Branch, 1801 Airport Road, Room 100, Wichita, Kansas 67209; telephone: (316) 946-4196; fax: (316) 946-4107; email: thomas.teplik@faa.gov or Wichita-COS@faa.gov.

SUPPLEMENTARY INFORMATION:

Comments Invited

The FAA invites you to send any written relevant data, views, or arguments about this proposal. Send your comments to an address listed under the ADDRESSES section. Include “Docket No. FAA-2020-0320; Product Identifier 2019-CE-011-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA has received reports from McCauley that an unapproved variant idler gear bearing, part number (P/N) A-20028, was installed on certain governors during production between January 31, 2017, and September 27, 2018, and may have been installed on governors in service after January 31, 2017. The unapproved variant of the idler gear bearing does not conform to McCauley drawing requirements.

All models of McCauley governors have an idler gear bearing with P/N A-20028 installed; however, the unapproved variant of the bearing can be identified by part marking “BA-59.” The non-conforming idler gear bearing could have also been included in the idler gear assembly (idler gear and bearing), P/N A-20107, or the governor overhaul kit, P/N PL-20233 or PL-20234.

The non-conformity of the bearing may cause premature failure of the idler gear bearing. Early symptoms that the idler gear bearing may fail include inability of the governor to hold the selected RPM, hunting, surging, etc. An investigation identified 23 occurrences of airplane operation problems related to erratic governor behavior that may have resulted from the unapproved idler gear bearing.

This condition, if not addressed, could cause the idler gear bearing to fail. This failure could result in failure of the governor, loss of propeller pitch control, engine and propeller over speed, engine oil contamination, and loss of control.

Related Service Information Under 1 CFR Part 51

The FAA reviewed McCauley Alert Service Bulletin ASB273C, dated January 30, 2019. The service bulletin contains model and serial number information to identify the affected governors. The service bulletin also contains procedures for removing the governor from the engine, inspecting the governor for the unapproved variant idler gear bearing, replacing the idler gear bearing or idler gear assembly if necessary, overhauling the governor if necessary, and installing a governor on the engine. This service information is reasonably available because the interested parties have access to it through their normal course of business or by the means identified in the ADDRESSES section.

FAA's Determination

The FAA is proposing this AD because it evaluated all relevant information and determined the unsafe condition described previously is likely to exist or develop in other products of the same type design.

Proposed AD Requirements

This proposed AD would require replacing an affected governor with a governor eligible for installation.

Differences Between This Proposed AD and the Service Information

The service bulletin contains maintenance procedures for inspecting an affected governor and any subsequent corrective actions required to ensure the governor is eligible for continued service and installation. The service bulletin also references other McCauley service documents for additional maintenance actions to include overhaul of the governor. However, this NPRM only proposes replacing the affected governor with a governor eligible for installation.

Costs of Compliance

The FAA estimates that this proposed AD affects 2,500 governors as installed in airplanes of U.S. registry.

The FAA estimates the following costs to comply with this proposed AD:

Estimated Costs
Action | Labor cost | Parts cost | Cost per product | Cost on U.S. operators
Remove affected governor | 1 work-hour × $85 per hour = $85 | Not Applicable | $85 | $212,500
Install an governor | 1 work-hour × $85 per hour = $85 | See table below | Variable | Unknown

An operator has the option to pay a service center to inspect their existing governor and replace the idler gear bearing if necessary or pay to have their existing governor overhauled. An operator has the option to purchase a factory new governor or an overhauled governor, a feathering/syncing governor or a non-feathering/syncing governor. The FAA has no way of knowing what option an operator may take to obtain a governor eligible for installation. Therefore, the FAA has no way of determining the parts cost on U.S. operators. The following represents the estimated parts cost associated with obtaining a governor.

Cost for an Eligible Governor
Type of governor | Cost of governor
Factory new non-feathering/non-syncing governor | $2,000
Factory new feathering/syncing governor | 9,000
Overhaul of existing non-feathering/non-syncing governor | 1,000
Overhaul of existing feathering/syncing governor | 3,000

According to the manufacturer, some of the costs of this proposed AD may be covered under warranty, thereby reducing the cost impact on affected individuals. The FAA does not control warranty coverage for affected individuals. As a result, the FAA has included all costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McCauley Propeller Systems: Docket No. FAA-2020-0320; Product Identifier 2019-CE-011-AD.

(a) Comments Due Date

The FAA must receive comments by May 22, 2020.

(b) Affected ADs

None.

(c) Applicability

This AD applies to the McCauley Propeller Systems (McCauley) governors specified in paragraphs (c)(1) or (2) of this AD and installed on airplanes, certificated in any category.

(1) Models listed in table 2 of McCauley Alert Service Bulletin No. ASB273C, dated January 30, 2019 (McCauley ASB273C) with a serial number from 170061 through 180501, excluding the serial numbers listed in table 1 of McCauley ASB273C.

(2) Models listed in table 2 of McCauley ASB273C, with any serial number, that have an installation date after January 31, 2017, or an installation date that cannot be determined.

(d) Subject

Joint Aircraft System Component (JASC)/Air Transport Association (ATA) of America Code 61, Propellers.

(e) Unsafe Condition

This AD was prompted by reports of an unapproved variant idler gear bearing, McCauley part number (P/N) A-20028, installed on governors. All models of McCauley governors have a bearing with P/N A-20028 installed; however, the unapproved variant can be identified with the part marking “BA-59.” The FAA is issuing this AD to prevent failure of the idler gear bearing. This failure could result in failure of the governor, loss of propeller pitch control, engine and propeller over speed, engine oil contamination, and loss of control of the airplane.

(f) Compliance

Unless already done, within 50 hours time-in-service after the effective date of this AD or within 24 months after the effective date of this AD, whichever occurs first, replace the governor with a governor eligible for installation.

Note 1 to paragraph (f) of this AD: Any model McCauley governor that is stamped with the letter B, as specified in the Accomplishment Instructions in McCauley ASB273C, has already complied with the requirements of this AD.

(g) Definition

For the purposes of this AD, a governor eligible for installation is defined as a governor that does not have an idler gear bearing with a part marking “BA-59” installed.

(h) Parts Installation Prohibition

As of the effective date of this AD, do not install on any airplane a McCauley governor unless it is a governor eligible for installation.

(i) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD.

(2) Before using any approved AMOC, notify your appropriate principal inspector, or lacking a principal inspector, the manager of the local flight standards district office/certificate holding district office.

(j) Related Information

(1) For more information about this AD, contact Thomas Teplik, Aerospace Engineer, Wichita ACO Branch, 1801 Airport Road, Room 100, Wichita, Kansas 67209; telephone: (316) 946-4196; fax: (316) 946-4107; email: thomas.teplik@faa.gov or Wichita-COS@faa.gov.

(2) For service information identified in this AD, contact McCauley Propeller Systems, One Cessna Boulevard, P.O. Box 7704, Wichita, Kansas 67277; telephone: (800) 621-7767 or (316) 831-4021; email: productsupport@txtav.com; internet: https://mccauley.txtav.com. You may view this service information at the FAA, Policy and Innovation Division, 901 Locust, Kansas City, Missouri 64106. For information on the availability of this material at the FAA, call (816) 329-4148.

Issued on April 1, 2020.
Lance T. Gant,
Director, Compliance & Airworthiness Division, Aircraft Certification Service.

[FR Doc. 2020-07168 Filed 4-6-20; 8:45 am]

BILLING CODE 4910-13-P